DEPARTMENT OF COMMERCE

National Oceanic and Atmospheric Administration

50 CFR Part 665

[Docket No. 230227-0056]

RIN 0648-BL35

Pacific Island Fisheries; 2022-2025 Annual Catch Limits and Accountability Measures for Main Hawaiian Islands Deepwater Shrimp and Precious Coral Fisheries

AGENCY: National Marine Fisheries Service (NMFS), National Oceanic and Atmospheric Administration (NOAA), Commerce.

ACTION: Final rule.

SUMMARY: In this final rule, NMFS implements annual catch limits (ACL) and accountability measures (AM) for main Hawaiian Islands (MHI) deepwater shrimp and precious coral for each fishing year in the time period between 2022 and 2025. As a post-season AM, if NMFS determines that the average total catch from the most recent 3 fishing years exceeded an ACL in a fishing year, we would reduce the ACL for the following fishing year by the amount of the overage. Although the 2022 fishing year for deepwater shrimp has ended, we will evaluate 2022 catches against the final ACL when data become available. This final rule supports the long-term sustainability of MHI deepwater shrimp and precious coral.

DATES: The final rule is effective April 6, 2023. The final ACLs and AMs are applicable for fishing years from January 1, 2022 through December 31, 2025 for deepwater shrimp and July 1, 2022 through June 30, 2025 for precious coral.

ADDRESSES: Copies of the Fishery Ecosystem Plan for the Hawaii Archipelago (FEP) are available from the Western Pacific Fishery Management Council (Council), 1164 Bishop St., Suite 1400, Honolulu, HI 96813, tel. 808-522-8220, fax 808-522-8226, or https://www.wpcouncil.org.

Copies of the environmental analyses and other supporting documents for this action are available from https://www.regulations.gov/docket/NOAA-NMFS-2022-0113, or from Sarah Malloy, Acting Regional Administrator, NMFS Pacific Islands Regional Office (PIRO), 1845 Wasp Blvd. Bldg. 176, Honolulu, HI 96818.

FOR FURTHER INFORMATION CONTACT: Keith Kamikawa, NMFS PIRO Sustainable Fisheries, 808-725-5177.

SUPPLEMENTARY INFORMATION: NMFS and the Council manage fisheries in the U.S. Exclusive Economic Zone (EEZ, or Federal waters) around Hawaii under the Fishery Ecosystem Plan for the Hawaiian Archipelago, as authorized by the Magnuson-Stevens Fishery Conservation and Management Act (Magnuson-Stevens Act), with regulations at 50 CFR part 665. The FEP contains a process for the Council and NMFS to specify ACLs and AMs, codified at 50 CFR 665.4. NMFS must specify ACLs and AMs for each stock and stock complex of management unit species (MUS) in an FEP, as recommended by the Council and considering the best available scientific, commercial, and other information about the fishery. If a fishery exceeds an ACL, the regulations require the Council to take action, which may include an AM reducing the ACL for the subsequent fishing year by the amount of the overage, or other appropriate action.

This rule would establish the following ACLs for MHI deepwater shrimp and precious coral for each fishing year in the time period between 2022 and 2025 and they are consistent with past ACLs for these fisheries:

Table 1—Annual Catch Limits for Main Hawaiian Islands Deepwater Shrimp and Precious Corals for Each Fishing Year in the Time Period Between 2022 and 2025
Fishery | Stock | ACL (lb)
Crustacean | Deepwater shrimp | 250,773
Precious Coral | Auau Channel—Black coral | 5,512
Precious Coral | Makapuu Bed—Pink and red coral | 2,205
Precious Coral | Makapuu Bed—Bamboo coral | 551
Precious Coral | 180 Fathom Bank—Pink and red coral | 489
Precious Coral | 180 Fathom Bank—Bamboo coral | 123
Precious Coral | Brooks Bank—Pink and red coral | 979
Precious Coral | Brooks Bank—Bamboo coral | 245
Precious Coral | Kaena Point Bed—Pink and red coral | 148
Precious Coral | Kaena Point Bed—Bamboo coral | 37
Precious Coral | Keahole Bed—Pink and red coral | 148
Precious Coral | Keahole Bed—Bamboo coral | 37
Precious Coral | Hawaii Exploratory Area—precious coral | 2,205

This rule is consistent with recommendations made by the Council at its March 2022 meeting. The Council recommended that NMFS implement ACLs and AMs for all subject stocks for each fishing year in the time period between 2022 and 2025.

The fishing year is the calendar year for deepwater shrimp and July 1 through June 30 for precious coral. As a post-season AM for each stock, NMFS and the Council will evaluate the catch after each fishing year relative to the ACL. If NMFS and the Council determine the average catch of the 3 most recent fishing years exceeds an ACL, NMFS will reduce the ACL for the subsequent fishing year through a separate rulemaking. These 2022-2025 ACLs are unchanged from past deepwater shrimp and precious coral ACLs and the subject fisheries have not caught their specified ACLs in any year since the ACLs were first implemented in 2012. There are currently three active Federal permits for the deepwater shrimp fishery and none for precious coral.

Comments and Response

No comments were received on the proposed rule during the public comment period.

Changes From the Proposed Rule

The final rule contains no changes from the proposed rule.

Classification

Pursuant to section 304(b)(1)(A) of the Magnuson-Stevens Act, the NMFS Assistant Administrator has determined that this final rule is consistent with the FEP, other provisions of the Magnuson-Stevens Act, and other applicable laws.

The Chief Counsel for Regulation of the Department of Commerce certified to the Chief Counsel for Advocacy of the Small Business Administration during the proposed rule stage that this action would not have a significant economic impact on a substantial number of small entities. The factual basis for the certification was published in the proposed rule and is not repeated here. NMFS received no comments regarding this certification. As a result, a regulatory flexibility analysis was not required and none was prepared.

This final rule has been determined to be not significant for purposes of Executive Order 12866.

This final rule contains no information collection requirements under the Paperwork Reduction Act of 1995.

List of Subjects in 50 CFR Part 665

Accountability measures, Annual catch limits, Deepwater shrimp, Precious coral, Fisheries, Fishing, Hawaii, Pacific Islands.

Dated: February 27, 2023.
Samuel D. Rauch, III,
Deputy Assistant Administrator for Regulatory Programs, National Marine Fisheries Service.

For the reasons set out in the preamble, NMFS amends 50 CFR part 665 as follows:

PART 665—FISHERIES IN THE WESTERN PACIFIC

1. The authority citation for 50 CFR part 665 continues to read as follows:

Authority: 16 U.S.C. 1801 et seq.

2. In § 665.253, revise paragraph (a)(1) to read as follows:

§ 665.253 Annual Catch Limits (ACL) and Annual Catch Targets (ACT).

(a) Deepwater shrimp. (1) In accordance with § 665.4, the ACLs for each fishing year are as follows:

Table 1 to Paragraph (a)(1)
Fishing year | 2022 | 2023 | 2024 | 2025
ACL (lb) | 250,773 | 250,773 | 250,773 | 250,773

* * * * *

3. In § 665.269, revise paragraph (c) to read as follows:

§ 665.269 Annual Catch Limits (ACL).

* * * * *

(c) Precious coral. In accordance with § 665.4, the ACLs for MHI precious coral permit areas for each fishing year are as follows:

Table 1 to Paragraph (c)
Type of coral bed | Area and coral group | 2022-23 ACL (lb) | 2023-24 ACL (lb) | 2024-25 ACL (lb)
Established bed | Auau Channel—Black coral | 5,512 | 5,512 | 5,512
| Makapuu Bed—Pink and red coral | 2,205 | 2,205 | 2,205
| Makapuu Bed—Bamboo coral | 551 | 551 | 551
Conditional Beds | 180 Fathom Bank—Pink and red coral | 489 | 489 | 489
| 180 Fathom Bank—Bamboo coral | 123 | 123 | 123
| Brooks Bank—Pink and red coral | 979 | 979 | 979
| Brooks Bank—Bamboo coral | 245 | 245 | 245
| Kaena Point Bed—Pink and red coral | 148 | 148 | 148
| Kaena Point Bed—Bamboo coral | 37 | 37 | 37
| Keahole Bed—Pink and red coral | 148 | 148 | 148
| Keahole Bed—Bamboo coral | 37 | 37 | 37
Exploratory Area | Hawaii—precious coral | 2,205 | 2,205 | 2,205

* * * * *

[FR Doc. 2023-04359 Filed 3-6-23; 8:45 am]

BILLING CODE 3510-22-P